NATIONAL SCIENCE FOUNDATION

Committee on Equal Opportunities in Science and Engineering (CEOSE); Notice of Meeting—Correction

In accordance with the Federal Advisory Committee Act (Pub. L. 92-463, as amended), the National Science Foundation announced the meeting of the Committee on Equal Opportunities in Science and Engineering (1173) on October 16 and 17, 2007 at the National Science Foundation. This notice was published on September 21, 2007, on page 54080, FR Doc. E7-18597.

Below is the corrected agenda. It contains the following changes:

• On October 16 the American Community Survey has been removed and the Planning for the Minority Technical Organization Summit has been added.

• The Report on the NSF Broadening Participation Plan has been moved to October 17.

Contact Person: Dr. Margaret E.M. Tolbert, Senior Advisor and Executive Liaison, CEOSE, Office of Integrative Activities, National Science Foundation, 4201 Wilson Boulevard Arlington, VA 22230, Telephone: (703) 292-8040, mtolbert@nsf.gov.

Agenda

Tuesday, October 16, 2007

Welcome and Opening Statement by the CEOSE Chair

Introductions

Presentations and Discussions:

• Experimental Program to Stimulate Competitive Research

• Broadening Participation Briefings on NSF Advisory Committee Meetings

• Planning for the Minority Technical Organization Summit

• Concurrent Planning Meetings of CEOSE Ad Hoc Subcommittees

• Reports on Strategic Planning by CEOSE, Mini-Symposium: Institutions Serving Persons with Disabilities Who Are in STEM Fields, and Broadening Participation Efforts of Several Federal Agencies

Wednesday, October 17, 2007

Opening Statement by the New CEOSE Chair

Presentations/Discussions:

• Report on the NSF Broadening Participation Plan

• Broadening Participation Initiatives of the NSF Directorate for Engineering

• Broadening Participation Initiatives of the Chemistry Division of the NSF Directorate for Mathematical and Physical Sciences

• Discussion Topics Pertinent to the CEOSE Mandate with the NSF Director and Deputy Director

Completion of Unfinished Business

Dated: October 1, 2007.
Susanne Bolton,
Committee Management Officer.

[FR Doc. E7-19656 Filed 10-4-07; 8:45 am]

BILLING CODE 7555-01-P